DEPARTMENT OF AGRICULTURE

Natural Resources Conservation Service

Southeast Supply Header Project; Southeast Supply Header, LLC; Federal Energy Regulatory Commission (FERC), Docket Nos. CP07-44-000, CP07-45-000, PF06-28-000, FERC EIS 0211; August 2007

AGENCY: Natural Resources Conservation Service, USDA.

ACTION: Notice of Availability of the Record of Decision.

SUMMARY: Pursuant to section 102(2)(C) of the National Environmental Policy Act of 1969; the Council on Environmental Quality Guidelines (40 CFR Part 1500); and the Natural Resources Conservation Service Guidelines (7 CFR Part 650); the Natural Resources Conservation Service, U.S. Department of Agriculture, has decided to subordinate its rights, acquired under the Wetland Reserve Program (WRP), to allow the Southeast Supply Header, LLC to cross NRCS held conservations easements associated with the Southeast Supply Header Project in Madison Parish, LA.

On December 18, 2006, SESH filed, in Docket No. CP07-446-000, an application with the Commission pursuant to section 7(c) of the Natural Gas Act and Part 157 of the Commission's regulations for a Certificate to construct, operate, and maintain an interstate natural gas pipeline and associated ancillary and aboveground facilities.

The Federal Energy Regulatory Commission (FERC) has prepared a final environmental impact statement (EIS) to fulfill requirements of the National Environmental Policy Act (NEPA). The purpose of this document was to make public the analysis of the environmental impacts that would likely result from the construction and operation of the proposed Project. The NRCS participated as a cooperating agency in the preparation of the EIS.

The project will affect approximately 7 NRCS held Wetlands Reserve Program (WRP) easements by creating a 50 ft. permanent right of way (within a 100 ft. construction right-of-way) that extends for approximately 269 miles of which 6.7 miles is over lands encumbered under WRP easements located in Madison Parish, Louisiana. Of the 34,584 acres encumbered by WRP easements in Madison Parish, Louisiana 73.93 acres will be affected.

FOR FURTHER INFORMATION CONTACT: Kevin D. Norton, State Conservationist, Natural Resources Conservation Service, 3737 Government Street, Alexandria, Louisiana 71302; telephone (318) 473-7751.

A limited number of copies of the ROD are available to fill single copy requests at the above address. Basic data evaluated for the ROD are on file and may be reviewed by contacting Kevin D. Norton.

Dated: January 3, 2008.
Kevin D. Norton,
State Conservationist.

[FR Doc. E8-298 Filed 1-9-08; 8:45 am]

BILLING CODE 3410-16-P